DEPARTMENT OF THE INTERIOR

Bureau of Land Management

[NV-930-1430-ET; N-66363]

Notice of Proposed Withdrawal and Opportunity for Public Meeting; Nevada

AGENCY: Bureau of Land Management, Interior.

ACTION: Notice.

SUMMARY: This notice temporarily segregates 160,529.76 acres of Federal lands and 15,813.12 acres of federally reserved minerals, while various studies and analyses are made to support a final decision to withdraw the land for protection of resources for a 20-year period. This notice closes the Federal lands to surface entry, except for conveyance under section 206 of Federal Land Policy and Management Act of 1976 or the Recreation and Public Purposes Act of 1926, and mining, but not to mineral leasing for up to 1 year. This notice closes the federally owned minerals to mining, but not to mineral leasing for up to 1 year. In addition, any non-Federal lands acquired through exchange, donation or purchase within the boundaries of the described plan area would be closed to surface entry and mining during the 1-year period. This segregation does not affect valid existing rights.

The Carson City Field Office of the Bureau of Land Management proposes to amend the Lahontan Resource Management Plan to address future management of these same lands. The resource management plan amendment process will serve as the basis for decisions on resource protection and development and the need for a withdrawal. The Bureau of Land Management and Washoe County are cooperating in the preparation of this resource management plan amendment.

DATES: Comments should be received on or before October 10, 2000.

ADDRESSES: Comments should be sent to the Nevada State Director, BLM, P.O. Box 12000, Reno, Nevada 89520 or the Manager, Carson City Field Office, 5665 Morgan Mill Road, Carson City, Nevada 89701.

FOR FURTHER INFORMATION CONTACT: Dennis J. Samuelson, BLM Nevada State Office, 775-785-6532 or Jo Ann Hufnagle, BLM Carson City Office, 775-885-6000.

SUPPLEMENTARY INFORMATION: On July 6, 2000, a petition was approved allowing the Bureau of Land Management to file an application to withdraw the following described Federal lands and non-Federal lands from surface and mineral entry:

Federal Lands

Mount Diablo Meridian

T. 20 N., R. 18 E.,

Sec. 2, lots 1 to 4, inclusive, S½N½ (that portion north of the south boundary of R/W Nev-042776 for U.S. Highway 395).

T. 21 N., R. 18 E.,

Sec. 4, lots 1 to 4, inclusive, S½NW¼, and SW¼;

Sec. 6, lots 11 to 14, inclusive;

Sec. 7, lots 9 to 12, inclusive;

Sec. 8;

Sec. 10;

Sec. 12, N½, NW¼SW¼, S½SW¼, and SW¼SE¼;

Sec. 14;

Sec. 18, lots 9 to 12, inclusive;

Sec. 22;

Sec. 26, lots 1 and 2, W½NW¼NE¼, NW¼, N½SW¼, and W½SE¼;

Sec. 27, W½NE¼, N½NW¼, and SE¼NW¼;

Sec. 34, NE¼, E½NW¼, E½W½NW¼, SW¼SW¼NW¼, N½N½SW¼, and N½SE¼, (those portions north of the south boundary of R/W Nev-042776 for U.S. Highway 395).

T. 22 N., R. 18 E.

Sec. 1, lots 1 to 4, inclusive, S½N½, and S½;

Sec. 2, lots 1 to 4, inclusive, S½N½, and S½;

Sec. 3, lots 1 to 4, inclusive, S½N½, and S½;

Sec. 4, lots 5 to 20, inclusive;

Sec. 5, lots 5 to 8, inclusive, S½N½, and S½;

Sec. 6, lots 3 to 6, inclusive;

Sec. 8, lots 1 to 12, inclusive, and SW¼;

Sec. 9 to 11, inclusive;

Sec. 12, W½;

Sec. 13, W½;

Sec. 14, lots 1 to 8, inclusive, and W½;

Sec. 15 to 17, inclusive;

Sec. 18, lots 1 to 4, inclusive;

Sec. 20, lots 1 to 8, inclusive, and S½;

Sec. 21;

Sec. 22, lots 1 to 4, inclusive, NE¼, and S½;

Sec. 23;

Sec. 24, lots 1 to 4, inclusive, and SW¼;

Sec. 25, W½;

Sec. 26 to 29, inclusive;

Sec. 30, lots 1 to 4, inclusive;

Sec. 31, lots 3 to 7, inclusive;

Sec. 32, lots 1 to 6, inclusive, E½, E½NW¼, NE¼SW¼, and S½SW¼;

Sec. 33;

Sec. 34, lots 1 to 8, inclusive, and N½;

Sec. 35;

Sec. 36, lots 1 to 8, inclusive.

T. 23 N., R. 18 E.

Sec. 7, lots 2 to 4, inclusive;

Sec. 8, lots 2 to 7, inclusive, SW¼NE¼, SE¼NW¼, NE¼SW¼, and N½SE¼;

Sec. 9, lots 1 to 4, inclusive;

Sec. 12, lots 1 to 4, inclusive, S½NE¼, SE¼NW¼, and E½SW¼;

Sec. 13, lots 1 to 10, inclusive, E½NW¼, and SW¼SW¼;

Sec. 16, lots 1 to 10, inclusive, and E½SE¼;

Sec. 17;

Sec. 18, lots 1 to 4, inclusive;

Sec. 19, lots 1 to 4, inclusive;

Sec. 20;

Sec. 21, lots 1 to 10, inclusive, and NE¼NE¼;

Sec. 22, SE¼SW¼, and SE¼;

Sec. 24, lots 1 to 6, inclusive, W½NW¼, N½SW¼, SE¼SW¼, and SE¼;

Sec. 25;

Sec. 26, lots 1 to 4, and SE¼NE¼;

Sec. 27, NE¼, E½NW¼, and S½;

Sec. 28, lots 1 to 12, inclusive, W½NE¼, and SE¼NE¼;

Sec. 29;

Sec. 30, lots 1 to 4, inclusive;

Sec. 31, lots 1 to 4, inclusive;

Sec. 32, lots 1 to 4, inclusive, N½, and N½S½;

Sec. 33, lots 1 to 12, inclusive, and SE¼;

Sec. 34, lots 1 to 7, N½, and SW¼SE¼;

Sec. 35, lots 1 to 6, inclusive, and NE¼;

Sec. 36, lots 1 to 8, inclusive, and N½.

T. 17 N., R. 19 E.,

Sec. 12, lots 1 and 2, NE¼, E½NW¼, S½SW¼, and N½SE¼.

T. 20 N., R. 19 E.,

Sec. 1, W½ lot 1 in NE¼, lot 2 in NE¼, lots 1 and 2 in NW¼;

Sec. 2, lots 1 and 2 in NE¼, lots 1 and 2 in NW¼, and S½;

Sec. 4, S½SW¼;

Sec. 10, NW¼NE¼, and N½NW¼;

Sec. 12;

Sec. 24, lots 1 and 4 to 8, inclusive, W½NE¼, E½SW¼, and W½SE¼.

T. 21 N., R. 19 E.,

Sec. 1, lots 1 to 4, inclusive, S½N½, and S½;

Sec. 2, lots 1 to 4, inclusive, S½N½, and S½;

Sec. 8, N½NE¼, SE¼NE¼, and E½SE¼;

Sec. 10;

Sec. 11, SW¼NE¼, W½NW¼, NE¼SW¼, and W½SE¼;

Sec. 12;

Sec. 13;

Sec. 14; N½;

Sec. 16, N½, and SE¼;

Sec. 22, SW¼;

Sec. 24, SE¼NW¼, and SW¼;

Sec. 25;

Sec. 26, E½NE¼, and NE¼SE¼;

Sec. 28, NE¼, N½SE¼, and SE¼SE¼;

Sec. 36.

T. 22 N., R. 19 E.,

Sec. 1, lots 3 to 11, inclusive, SE¼NW¼, and NE¼SW¼;

Sec. 2, lots 1 to 4, inclusive, S½N½, and S½;

Sec. 3, lots 2 to 4, inclusive;

Sec. 4, lots 1 to 11, inclusive, S½NW¼, N½SW¼, and NW¼SE¼;

Sec. 5, lots 1 to 4, inclusive, S½N½, and S½;

Sec. 6, lots 1 to 7, inclusive, S½NE¼, SE¼NW¼, E½SW¼, and SE¼;

Sec. 9, lots 1 to 4, inclusive, E½, and E½W½;

Sec. 10;

Sec. 12;

Sec. 14, SE¼SW¼;

Sec. 15, W½;

Sec. 16, lots 1 to 4, inclusive, E½, and E½W½;

Sec. 22;

Sec. 24;

Sec. 26, NE¼, NE¼NW¼, N½SE¼, and SW¼SE¼;

Sec. 36.

T. 23 N., R. 19 E.,

Sec. 1, S½;

Sec. 2, S½;

Sec. 3, S½;

Sec. 4, S½;

Sec. 5, S½;

Sec. 6, lots 6 to 7, inclusive, E½SW¼, and SE¼;

Sec. 7, lots 1 to 4, inclusive, E½, and E½W½;

Sec. 8 to 17, inclusive;

Sec. 18, lots 1 to 4, inclusive, E½, and E½W½;

Sec. 19, lots 1 to 4, inclusive, E½, and E½W½;

Sec. 20 to 29, inclusive;

Sec. 30, lots 1 to 4, inclusive, E½, and E½W½;

Sec. 31, lots 1 to 7, inclusive, NE¼, E½NW¼, NE¼SW¼, and N½SE¼;

Sec. 32, lots 1 to 4, inclusive, N½, and N½S½;

Sec. 33, lots 1 to 4, inclusive, N½, and N½S½;

Sec. 34, lots 1 to 4, inclusive, N½, and N½S½;

Sec. 35, N½;

Sec. 36, lots 1 to 7, inclusive, W½NE¼, NW¼, N½SW¼, and NW¼SE¼.

T. 16 N., R. 20 E.,

Sec. 1, E½ of lot 2 in NE¼, and lot 3;

Sec. 2, lots 1 and 2 in the NE¼, lots 1 and 2 in NW¼, N½S½, and S½SW¼;

Sec. 3, lot 2 in NE¼, and lot 2 in NW¼;

Sec. 4, lots 1 and 2 in NE¼, and S½;

Sec. 10;

Sec. 11, N½NE¼NE¼, and SE¼NE¼NE¼;

Sec. 14, irregular Washoe County portion within W½W½;

Sec. 16, SE¼SE¼;

Sec. 20, E½, E½SW¼, and SW¼SW¼;

Sec. 30, lot 1 in NW¼, S½ of lot 2 in NW¼, lots 1 and 2 in SW¼, and E½.

T. 17 N., R. 20 E.,

Sec. 1, lot 2 in NE¼, lot 2 in NW¼, and SW¼SE¼;

Sec. 2, E½ of lot 1 in NE¼, lot 2 in NE¼, W½ of lot 1 in NW¼, lot 2 in NW¼, SW¼, and W½SE¼;

Sec. 8, E½, SE¼NW¼, NE¼SW¼, and S½SW¼;

Sec. 10, W½NE¼, SE¼NE¼, W½, and SE¼;

Sec. 12, E½, S½NW¼, and SW¼;

Sec. 14;

Sec. 16;

Sec. 18, E½E½, E½NE¼SW¼, NE¼SE¼SW¼, E½NE¼NW¼SE¼, E½NW¼NW¼SE¼, S½NW¼SE¼, NE¼SW¼SE¼, and S½SW¼SE¼;

Sec. 20, lots 1 and 2, N½, N½S½, SW¼SW¼, and SE¼SE¼;

Sec. 21, SW¼NW¼SW¼, and NW¼SW¼SW¼;

Sec. 22;

Sec. 24;

Sec. 25, S½NE¼, and SE¼;

Sec. 26;

Sec. 28;

Sec. 29, lots 2 and 3;

Sec. 30, N½ of lot 1 in SW¼; and E½;

Sec. 32, N½N½, SE¼NE¼, SW¼NW¼, and E½SE¼;

Sec. 33, SW¼SW¼;

Sec. 34, lots 1 and 2, N½, SW¼, and W½SE¼;

Sec. 35, lots 1 and 2, N½, E½SW¼, and SE¼;

Sec. 36, lots 1 to 16, inclusive.

T. 18 N., R. 20 E.,

Sec. 4, lots 5 and 6;

Sec. 26, SW¼SW¼;

Sec. 28, SW¼SW¼;

Sec. 33, NE¼NW¼;

Sec. 34, E½NW¼SE¼NE¼, S½SE¼NE¼, E½NW¼SW¼NW¼, W½SE¼SW¼NW¼, NW¼NW¼SW¼, S½NW¼SW¼, SW¼SW¼, N½N½NE¼SE¼, N½SW¼NE¼SE¼, S½SE¼NE¼SE¼, W½SW¼SW¼SE¼, W½SE¼SW¼SW¼SE¼, E½E½SE¼SW¼SE¼, NE¼NE¼SE¼SE¼, W½SE¼SE¼, and S½SE¼SE¼SE¼.

T. 19 N., R. 20 E.,

Sec. 12, SE¼SW¼, and SW¼SE¼;

Sec. 14, SE¼NE¼, and SE¼;

Sec. 32, SE¼NE¼, S½S½NE¼SE¼, and S½SE¼;

Sec. 34, W½NW¼NW¼NE¼NE¼, S½NW¼NE¼NE¼, W½SW¼NE¼NE¼, SE¼NE¼NE¼, E½NE¼NE¼NW¼NE¼, SE¼NE¼NW¼NE¼, W½NE¼NW¼NE¼, E½NW¼NW¼NE¼, S½NW¼NE¼, NE¼NE¼SW¼NE¼, E½NW¼NE¼SW¼NE¼, S½NE¼SW¼NE¼, W½NE¼NW¼SW¼NE¼, W½NW¼SW¼NE¼, SE¼NW¼SW¼NE¼, W½NE¼SW¼SW¼NE¼, W½SW¼SW¼NE¼, SE¼SW¼SW¼NE¼, SE¼SW¼NE¼, E½SE¼NE¼, E½W½SE¼NE¼, N½NW¼, NE¼SE¼NW¼, W½NW¼SE¼NW¼, NE¼SW¼, E½SE¼, NW¼SE¼, and W½SW¼SE¼.

T. 20 N., R. 20 E.,

Sec. 5, lots 1 to 4, inclusive, S½N½, and S½;

Sec. 6, lots 2, 3, and lots 8 to 11, inclusive, SE¼NW¼, E½SW¼, and S½SE¼;

Sec. 7, lots 1, 2, and lots 5 to 9, inclusive, W½NE¼, E½NW¼, NE¼SW¼, and N½SE¼SW¼;

Sec. 8, lot 1;

Sec. 9, SW¼;

Sec. 14, lots 4 to 5, E½SW¼, and SE¼;

Sec. 16, N½NE¼, SW¼NE¼, W½, and NW¼SE¼;

Sec. 20, S½NE¼, E½SW¼, and SE¼;

Sec. 21, lots 3 and 4, and NW¼SW¼;

Sec. 28, lots 15, 16, lots 21 to 24, inclusive, lots 26, 29, and lots 31 to 41, inclusive, SW¼NE¼, SW¼NW¼, and SE¼;

Sec. 29, lots 9 to 15, inclusive, N½NE¼, SE¼NE¼, NE¼SE¼, SW¼SE¼, and all unpatented mining claims.

T. 21 N., R. 20 E.,

Sec. 2, lots 3 to 7, inclusive, SE¼NW¼, and E½SW¼;

Sec. 3, lots 1 to 4, inclusive, S½N½, and S½;

Sec. 5, lots 1 to 4, inclusive, S½N½, and S½;

Sec. 6, lots 1 to 7, inclusive, S½NE¼, SE¼NW¼, E½SW¼, and SE¼;

Sec. 7, lots 1 to 4, inclusive, NE¼, E½NW¼, E½SW¼, and SE¼;

Sec. 8;

Sec. 10, lots 1 to 4, inclusive, W½E½, and W½;

Sec. 12, lots 1 and 2;

Sec. 15, lots 3 to 5, inclusive, W½NE¼, E½SE¼NW¼, and NE¼SW¼;

Sec. 17;

Sec. 18, lots 1 to 4, inclusive, E½, and E½W½;

Sec. 19, lots 1 to 4, inclusive, E½, and E½W½;

Sec. 20;

Sec. 22, lots 2 to 11, inclusive, SE¼NW¼, and NE¼SW¼;

Sec. 28;

Sec. 29;

Sec. 30, lots 1 to 4, inclusive, E½, and E½W½;

Sec. 31, lots 1 to 5, inclusive, E½, E½NW¼, and NE¼SW¼;

Sec. 32.

T. 22 N., R. 20 E.,

Sec. 3, lots 3 to 7, inclusive, SE¼NW¼, and E½SW¼;

Sec. 4, lots 1 to 4, inclusive, S½N½, and S½;

Sec. 5, lots 1 to 4, inclusive, S½N½, and S½;

Sec. 6, lots 1 to 7, inclusive, S½NE¼, SE¼NW¼, E½SW¼, and SE¼;

Sec. 7, lots 1 to 4, inclusive, E½, and E½W½;

Sec. 8;

Sec. 9;

Sec. 10, lots 1 to 4, inclusive, lots 8 and 9, SE¼NW¼, and NE¼SW¼;

Sec. 15, W½;

Sec. 16;

Sec. 17;

Sec. 18, lots 1 to 4, inclusive, E½, and E½W½;

Sec. 19, lots 1 to 4, inclusive, E½, and E½W½;

Sec. 20 to 22, inclusive;

Sec. 23, lots 1 to 7, inclusive, SW¼NE¼, S½NW¼, SW¼, and W½SE¼;

Sec. 26, lots 1 to 4, inclusive, W½E½, and W½;

Sec. 27, lots 2 to 4, inclusive, N½, SW¼, N½SE¼, and all unpatented mining claims;

Sec. 28;

Sec. 29;

Sec. 30, lots 1 to 4, inclusive, E½, and E½W½;

Sec. 31, lots 1 to 4, inclusive, E½, and E½W½;

Sec. 32 to 34, inclusive;

Sec. 35, lots 5 to 7, inclusive, lot 9 and lots 11 to 13, inclusive, W½E½, N½NW¼, and all unpatented mining claims;

T. 23 N., R. 20 E.,

Sec. 7, S½, unsurveyed;

Sec. 8, S½;

Sec. 9, S½, partly unsurveyed;

Sec. 10, S½;

Sec. 11, N½SW¼, SW¼SW¼, and E½SE¼;

Sec. 12, S½;

Sec. 14, S½NW¼, and N½SW¼;

Sec. 15, S½NE¼, W½NE¼NW¼, NW¼NW¼, S½NW¼, SW¼, N½SE¼, and SW¼SE¼;

Sec. 16 to 21, inclusive, unsurveyed;

Sec. 22, lots 2, 3, and lots 5 to 11, inclusive, and SW¼SW¼;

Sec. 27, lots 1 to 7, inclusive, W½NE¼, NW¼, N½SW¼, and NW¼SE¼;

Sec. 28 to 30, inclusive, unsurveyed;

Sec. 31, lots 1 to 4, inclusive, E½, and E½W½;

Sec. 32;

Sec. 33, lots 1 and 2, W½NE¼, W½, and SE¼;

Sec. 34.

T. 19 N., R. 21 E.,

Sec. 6, lots 1 to 6, inclusive, S½NE¼, and SE¼;

Sec. 8, lots 1 to 4, inclusive, N½, and N½S½;

Sec. 10, N½, N½SW¼, E½NE¼SW¼SW¼, SE¼SW¼SW¼SW¼, SE¼SW¼SW¼, and SE¼SW¼, NW¼SE¼;

Sec. 16, NE¼, N½NW¼, and SE¼NW¼;

Sec. 18, lot 1, and N½NE¼.

T. 20 N., R. 21 E.,

Sec. 2, lots 1 to 4, inclusive, S½N½, and S½;

Sec. 4, lots 1 to 4, inclusive, S½N½, and S½;

Sec. 8,

Sec. 10;

Sec. 12 to 16, inclusive;

Sec. 18, lots 1 to 4, inclusive, N½NE¼, SW¼NE¼, W½SE¼, and SE¼SE¼;

Sec. 20 to 29, inclusive;

Sec. 30, lots 1 to 4, inclusive, and E½;

Sec. 31, lots 1 to 4, inclusive, and E½;

Sec. 32;

Sec. 33, N½;

Sec. 34;

Sec. 35, N½N½, and SE¼NE¼;

Sec. 36, lots 1, 4 and 5, N½, N½SW¼, and NW¼SE¼.

T. 21 N., R. 21 E.,

Sec. 6, lot 7 and SE¼SW¼;

Sec. 7, lot 1 and NE¼NW¼;

Sec. 36.

T. 22 N., R. 21 E.,

Sec. 7, lot 5.

T. 23 N., R. 21 E.,

Sec. 7, lots 3 and 4, E½SW¼, and SE¼;

Sec. 8, N½SW¼, SE¼SW¼, and SE¼;

Sec. 9, N½SE¼, and SW¼;

Sec. 10, NW¼SE¼;

T. 20 N., R. 22 E.,

Sec. 2, lots 1 to 4, inclusive, S½N½, and S½;

Sec. 4, lots 1 to 4, inclusive, S½N½, and S½;

Sec. 6, lots 1 to 7, inclusive, S½NE¼, SE¼NW¼, E½SW¼, and SE¼;

Sec. 8;

Sec. 10;

Sec. 12;

Sec. 14;

Sec. 16;

Sec. 18, lots 1 to 4, inclusive, E½, and E½W½;

Sec. 19, lots 1 to 4, inclusive, E½, and E½W½;

Sec. 20;

Sec. 22;

Sec. 24, irregular Washoe County portion within W½;

Sec. 26, N½, and N½S½;

Sec. 30, lots 1 to 4, inclusive, NE¼, and E½W½.

T. 21 N., R. 22 E.,

Sec. 32;

Sec. 34;

Sec. 36.

T. 20 N., R. 23 E.,

Sec. 6, lots 1 to 7, inclusive, S½NE¼, SE¼NW¼, E½SW¼, and SE¼;

Sec. 8;

Sec. 18, lots 1 to 7, inclusive, NE¼, E½NW¼, NE¼SW¼, and N½SE¼;

Sec. 20, N½N½, irregular Washoe County portion within SE¼NW¼.

The areas described aggregate 160,529.76 acres in Washoe County.

Federally Reserved Minerals

T. 22 N., R. 18 E.,

Sec. 12, E½;

Sec. 24, E½;

Sec. 36, E½.

T. 23 N., R. 18 E.,

Sec. 15, NE¼, E½NW¼, and SE¼;

Sec. 16, W½NE¼, and SE¼NE¼;

Sec. 22, NE¼, SE¼NW¼, and NE¼SW¼;

T. 20 N., R. 19 E.,

Sec. 25, lots 1 to 7, inclusive, and lot 11, SW¼NE¼, SE¼NW¼, NE¼SW¼, and NW¼SE¼, (those portions north of the south boundary of R/W Nev-042776 for U.S. Highway 395).

T. 21 N., R. 19 E.,

Sec. 4, lots 1 to 4, inclusive, S½N½, and S½;

Sec. 6, lots 1 to 7, S½NE¼, SE¼NW¼, E½SW¼, and SE¼.

T. 22 N., R. 19 E.,

Sec. 8;

Sec. 13, SW¼NE¼;

Sec. 14, E½, NW¼, N½SW¼, and SW¼SW¼;

Sec. 18, lots 1 to 4, E½, and E½W½;

Sec. 20;

Sec. 26, W½NW¼, SE¼NW¼, SW¼, and SE¼SE¼;

Sec. 28;

Sec. 30, lots 1 to 4, E½, and E½W½;

Sec. 31, lots 3 and 4, E½SW¼, and SE¼;

Sec. 32;

Sec. 34.

T. 17 N., R. 20 E.,

Sec. 18, lots 3 to 11, inclusive, W½NE¼SW¼, W½SE¼SW¼, SE¼SE¼SW¼, W½NE¼NW¼SE¼, W½NW¼NW¼SE¼, and NW¼SW¼SE¼.

T. 18 N., R 20 E.,

Sec. 4, lots 3 and 4;

Sec. 34, NE¼SE¼NE¼, W½NW¼SE¼NE¼, NE¼SW¼NW¼, W½NW¼SW¼NW¼, SW¼SW¼NW¼, E½SE¼SW¼NW¼, E½SW¼, NE¼NW¼SW¼, S½N½NE¼SE¼, S½SW¼NE¼SE¼, N½SE¼NE¼SE¼, N½SW¼SE¼, NE¼SW¼SW¼SE¼, E½SE¼SW¼SW¼SE¼, W½SE¼SW¼SE¼, W½E½SE¼SW¼SE¼, NW¼NE¼SE¼SE¼, S½NE¼SE¼SE¼, and N½SE¼SE¼SE¼.

T. 19 N., R. 20 E.,

Sec. 2, SE¼SE¼;

Sec. 11, SW¼NE¼;

Sec. 26, W½E½, and W½;

Sec. 32, W½NE¼;

Sec. 34, NE¼NE¼NE¼, NE¼NW¼NE¼NE¼, E½NW¼NW¼NE¼NE¼, E½SW¼NE¼NE¼, W½NE¼NE¼NW¼NE¼, W½NW¼NW¼NE¼, W½NW¼NE¼SW¼NE¼, E½NE¼NW¼SW¼NE¼, E½NE¼SW¼SW¼NE¼, W½W½SE¼NE¼, E½NW¼SE¼NW¼, SW¼SE¼NW¼, and E½SW¼SE¼.

T. 20 N., R. 20 E.,

Sec. 14, lots 1 to 3, inclusive, and SW¼NE¼;

Sec. 26, SW¼SE¼SW¼, and W½SE¼SE¼SW¼;

Sec. 28, E½SE¼SW¼NE¼NW¼, and W½SW¼SE¼NE¼NW¼;

Sec. 29, lot 8, NW¼SW¼, and SE¼SW¼;

Sec. 30, W½NE¼SE¼, N½SW¼SE¼, SW¼SW¼SE¼, and W½SE¼SW¼SE¼;

T. 21 N., R. 20 E.,

Sec. 1, lots 5 to 7, inclusive, and lots 10 to 22, inclusive;

Sec. 2, lot 2, lots 8 to 46, inclusive, SW¼NE¼, NW¼NE¼SE¼, S½NE¼SE¼, W½SE, and N½SE¼SE¼;

Sec. 12, lots 3 to 12, inclusive, and SW¼;

Sec. 13, lots 1 and 4.

T. 22 N., R. 20 E.,

Sec. 10, lots 5 to 7, inclusive, NE¼, and NW¼SE¼;

Sec. 14, lots 5 to 7, inclusive;

Sec. 24, W½W½;

Sec. 36, S½SE¼.

T. 23 N., R. 20 E.,

Sec. 11, SE¼SW¼, and W½SE¼;

Sec. 14, W½E½, and N½NW¼;

Sec. 15, N½NE¼, and E½NE¼NW¼;

Sec. 15, N½NE¼, and E½NE¼NW¼;

T. 19 N., R. 21 E.,

Sec. 10, W½NE¼SW¼SW¼, NW¼SW¼SW¼, N½SW¼SW¼SW¼, and SW¼SW¼SW¼SW¼.

T. 21 N., R. 21 E.,

Sec. 8, SE¼SW¼NE¼, S½SE¼NE¼, and S½;

Sec. 18, lots 1 and 2, S½NE¼NE¼, and SE¼NE¼;

Sec. 20, NE¼NW¼, and SW¼NW¼.

T. 23 N., R. 21 E.,

Sec. 8, SW¼SW¼;

Sec. 17, W½NW¼, and SW¼;

Sec. 18, lot 1, E½E½, NW¼NE¼, and NE¼NW¼;

Sec. 19, lots 3 and 4, E½E½, SW¼NE¼, SE¼NW¼, E½SW¼, and SE¼;

Sec. 20, W½;

Sec. 29, NW¼.

T. 22 N., R. 22 E.,

Sec. 4, lots 1 to 4, S½N½, and S½.

The areas described aggregate 15,813.12 acres in Washoe County.

In addition, if any of the non-Federal lands in Washoe County within the area described below are acquired by the United States in the future by exchange, donation, or purchase, those lands will be included in this application and would be closed to surface entry and mining if acquired during the 2-year segregative period:

T. 21 N., R. 18 E., (on north and east side of U.S. Highway 395).

T. 22 N., R. 18 E.

T. 23 N., R. 18 E., excepting sec. 1-5, inclusive, and the N½N½ of sec. 9-12, inclusive.

T. 20 N., R. 19 E., (on north and east side of U.S. Highway 395).

T. 21 N., R. 19 E.

T. 22 N., R. 19 E.

T. 23 N., R. 19 E., excepting sec. 4.

T. 16 N., R. 20 E.

T. 17 N., R. 20 E., (on east side of U.S. Highway 395).

T. 18 N., R. 20 E., (on east side of U.S. Highway 395).

T. 19 N., R. 20 E., (on east side of U.S. Highway 395).

T. 20 N., R. 20 E.

T. 21 N., R. 20 E.

T. 22 N., R. 20 E.

T. 23 N., R. 20 E., excepting sec. 2, 4 and 12.

T. 17 N., R. 21 E.

T. 19 N., R. 21 E.

T. 20 N., R. 21 E.

T. 21 N., R. 21 E.

T. 22 N., R. 21 E.

T. 23 N., R. 21 E., sec. 18, 19, and 30-32, inclusive.

T. 20 N., R. 22 E.

T. 21 N., R. 22 E.

T. 22 N., R. 22 E.

T. 23 N., R. 22 E., (outside the boundaries of the Pyramid Lake Indian Reservation).

T. 20 N., R. 23 E., sec. 5, 7, 17, 19 and 20.

T. 21 N., R. 23 E., sec. 31.

The purpose of the withdrawal is to protect resource values in the open and mountainous terrain in the southern Washoe County urban, suburban and rural residential area. Washoe County has recently developed an Open Space System that identifies a large acreage of public lands as having open space values. Much of this acreage is identified in BLM's resource management plan for disposal for community expansion. The joint land use plan amendment will address future management of these lands and the need for a protective withdrawal.

The withdrawal application will be processed in accordance with the regulations set forth in 43 CFR Part 2300. Notice is hereby given that a public meeting in connection with the proposed withdrawal will be held at a later date. A notice of the time and place will be published in the Federal Register 30 days before the scheduled date of the meeting.

For a period of 90 days from the date of publication of this notice, all persons who wish to submit comments, suggestions, or objections in connection with the proposed withdrawal may present their views in writing to either the State Director or Manager, Carson City Field Office.

For a period of 1 year from the date of publication of this notice in the Federal Register, the lands will be segregated as specified above unless the application is denied or cancelled or the withdrawal is approved prior to that date. Rights-of-way, leases, permits and other discretionary temporary land uses will be considered by the authorized officer during this segregative period.

Dated: July 6, 2000.
Margaret L. Jensen,
Deputy State Director, Natural Resources, Lands, and Planning.

[FR Doc. 00-17567 Filed 7-10-00; 8:45 am]

BILLING CODE 4310-HC-P